DEPARTMENT OF THE INTERIOR

Bureau of Land Management

[XXX LLIDI00000.L71220000.EX0000.LVTFD0977240; IDI-33145, IDI-35728-FD, IDI-35728-PT 241A 4500073633]

Notice of Availability of the Final Environmental Impact Statement and Proposed Amendment to the Challis Resource Management Plan for the Thompson Creek Mine Expansion and Public Land Disposal, Custer and Bannock Counties, Idaho

AGENCY: Bureau of Land Management, Interior.

ACTION: Notice of availability.

SUMMARY: In compliance with the National Environmental Policy Act of 1969, as amended (NEPA), and the Federal Land Policy and Management Act of 1976, as amended (FLPMA), the Bureau of Land Management (BLM) Challis Field Office, Idaho, has prepared a final environmental impact statement (Final EIS) and proposed resource management plan (RMP) amendment for: (1) A proposed modified mining plan of operations (MMPO) for the Thompson Creek molybdenum mine, and (2) a land exchange proposal with the mine operator. By this notice, the BLM announces the availability of the Final EIS/proposed RMP amendment and the U.S. Forest Service draft decision for the proposed MMPO.

DATES: The BLM announces the start of a 30-day availability period for the Final EIS and a 30-day protest period for the proposed RMP amendment. The BLM will not issue a decision on the proposed MMPO, land exchange proposal, or proposed RMP amendment, for a minimum of 30 days following the date the Environmental Protection Agency publishes a notice of availability in the Federal Register.

ADDRESSES: Copies of the Final EIS/proposed RMP amendment have been made available to affected Federal, State and local government agencies and to other stakeholders as appropriate. Copies of the Final EIS/proposed RMP amendment are also available for review at the BLM Challis Field Office, 1151 Blue Mountain Road, Challis, Idaho 83226 from 7:45 a.m. to 4:30 p.m. Mountain Time, Monday through Friday, except Federal holidays. Copies of the Final EIS/proposed RMP amendment are also available online at http://www.blm.gov/id/st/en/prog/nepa_register/TCM-exlx_EIS.html. All protests of the BLM proposed RMP amendment must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Ken Gardner, project manager, at the BLM Challis Field Office, telephone: 208-879-6210; address: 1151 Blue Mountain Road, Challis, Idaho 83226; email: ksgardner@blm.gov. Persons who use telecommunication devices for the deaf (TDD) may call the Federal Information Relay Service (FIRS) at 800-877-8339 to contact the above individual. The FIRS is available 24 hours a day, 7 days a week, to leave a message for the above individual. You will receive a reply during normal business hours.

SUPPLEMENTARY INFORMATION: Thompson Creek Mining Company (TCMC) has submitted an MMPO for the Thompson Creek molybdenum mine, as well as a separate, but related land exchange proposal. These proposals would affect BLM-administered land, National Forest System land, and waters of the United States. Pursuant to NEPA, the Final EIS analyzes the potential environmental effects of the proposed MMPO, a proposed RMP amendment, and a proposed land exchange. In response to these proposals: (1) The BLM will decide whether to approve the portion of an MMPO involving BLM-administered land under BLM regulations at 43 CFR 3809; (2) the Forest Service will decide whether to approve the portion of an MMPO involving National Forest System land under Forest Service regulations at 36 CFR 228, Subpart A; (3) the US Army Corps of Engineers (USACE) will decide whether to issue a permit under Section 404 of the Clean Water Act and USACE regulations at 33 CFR 320; (4) the BLM will decide whether to amend the Challis Field Office 1999 resource management plan (RMP), pursuant to Section 202 of FLPMA and BLM regulations at 43 CFR 1610, so as to identify the BLM-administered land in the land exchange proposal as available for disposal; and (5) the BLM will decide whether to approve a land exchange action. The cooperating agencies for the Final EIS/proposed RMP amendment are the Forest Service, Salmon-Challis National Forest; USACE, Walla Walla District; US Environmental Protection Agency, Region 10; Idaho Department of Environmental Quality, Idaho Falls Regional Office; and Idaho Department of Lands, Eastern Idaho Supervisory Area Office.

TCMC owns and operates the mine, which is 7 miles northwest of Clayton and 21 miles southwest of Challis in Custer County, Idaho. The mine has operated since 1981 and is currently authorized for about 3,300 acres of surface disturbance, of which 2,300 acres are on private land, 750 acres are on BLM-administered land, and 250 acres are on National Forest System land. The current surface disturbance at the mine is approximately 2,800 acres.

The MMPO would allow an approximate 10-year extension of the mine life and expansion of the waste rock and tailings storage facilities which would require additional authorized surface disturbance on about 200 acres of BLM-administered land, 190 acres of National Forest System land, and 110 acres of private land.

The land exchange proposal is an offer to exchange 901 acres of private lands owned by TCMC in Custer and Bannock counties for 5,100 acres of BLM-administered land where the mine is located in Custer County, including nearly all of the BLM-administered land identified in the MMPO. The offered lands are the Broken Wing Ranch (813 acres) in Custer County and the Garden Creek property (82 acres) in Bannock County. Broken Wing Ranch borders several miles of the Salmon River, and the Garden Creek property contains a portion of the headwaters of Garden Creek. Public ownership of these lands would prevent their subdivision and development, enhance habitat for four threatened and endangered fish species and several species of wildlife, and substantially increase public access to the Lyon Creek drainage in Custer County.

Approval of the MMPO is not contingent on the approval of the land exchange. They are separate decisions, and the Final EIS analyzes them separately. The Final EIS also analyzes a set of MMPO alternatives and a completely independent set of land disposal alternatives. In connection with the land exchange proposal, the Final EIS also evaluates amending the RMP to identify the selected lands as suitable for disposal pursuant to Section 202 of FLPMA.

The BLM, Forest Service, and Idaho Department of Lands each administer its respective portions of a single plan of operations for the mine. If the BLM approves the land exchange, TCMC would obtain title to nearly all of the BLM-administered land involved with the mine. A small amount of BLM-administered land with a few mine support features (i.e., pipelines, power lines, access roads and a pump station) is not included in the proposed land exchange, and thus, it would continue to be administered by the BLM. TCMC could continue to use these features through a subsequent MMPO or by obtaining grants for rights-of-ways and special use permits under FLPMA.

The Final EIS analyzes a set of MMPO alternatives and a set of independent land disposal alternatives. As explained above, MMPO alternatives do not depend on the outcome of the land disposal alternatives. TCMC would not operate the mine any differently if the BLM-administered land in the land exchange proposal were owned by TCMC or continued to be administered by the BLM. However, the nature of BLM's involvement and its relationship to the MMPO would change if any of the land disposal alternatives were selected.

The MMPO alternatives include:

Alternative M1—No Action. TCMC would complete mining and reclamation under the current mining plan of operations (Phase 7), with molybdenum mining ending in the short term. Approximately 2,800 acres would be disturbed.

Alternative M2—MMPO as submitted by TCMC. TCMC would complete mining and reclamation under the proposed MMPO (Phase 8), with molybdenum mining ending in approximately 2025. The two existing waste rock storage facilities would be enlarged. Approximately 3,300 acres would be disturbed by time of closure.

Alternative M3—No Name Waste Rock Facility. A variation of Alternative M2 in which TCMC would develop a new waste rock storage facility in the No Name drainage, with less waste rock placed into the two existing waste rock storage facilities. Approximately 3,500 acres would be disturbed by time of closure.

The land exchange alternatives include:

Alternative L1—No Action. The BLM would not amend the RMP and the land exchange would not occur. Mining would occur according to the selected MMPO alternative, as MMPO alternatives do not depend on the outcome of the land disposal alternatives.

Alternative L2—Land Exchange Proposal submitted by TCMC. The BLM would amend the RMP, TCMC would acquire up to approximately 5,100 acres of BLM-administered land, and the US would acquire up to approximately 900 acres of private land that would be administered by the BLM. Livestock grazing and agricultural operations would continue on the Broken Wing Ranch.

Alternative L2-B—The same as Alternative L2 except the ranch would be converted to native vegetation and livestock grazing would not occur at the ranch.

Alternative L3—Land Sale. The BLM would amend the RMP allowing conveyance of up to about 5,100 acres of BLM-administered land to TCMC via a sale at the appraised fair market value pursuant to Section 203 of the FLPMA.

Alternative L4—Reduced Area Land Exchange, Fee Simple. The BLM would amend the RMP, TCMC would acquire approximately 3,600 acres of BLM-administered land, and the US would acquire approximately 30 percent less private land by fair market value compared to Alternative L2.

Alternative L5—Reduced Area Land Exchange, Easement. The BLM would amend the RMP and TCMC would acquire approximately 5,100 acres of BLM-administered land, with a conservation easement placed on approximately 1,500 acres. The US would accordingly acquire approximately 10 percent less private land by fair market value compared to Alternative L2.

These alternatives are the same alternatives as those analyzed in the Draft EIS/draft RMP. BLM held public meetings during the public comment period for the Draft EIS/draft RMP amendment in Challis, Idaho on May 13, 2014 and in Boise, Idaho on May 14, 2014. A total of 684 public responses containing 2,693 comments were received during the 90-day public comment period. Approximately 75 percent of the responses contained similar form statements. The majority of the comments focused on the economic effects of the project. In addition, there were approximately 500 mostly general comments regarding the long-term water quality at the mine site, methods of reclaiming the mine, financial guarantees for reclaiming the mine, stability of the tailings storage facility, range of alternatives, cumulative effects analysis, effects to an outfitter using the selected land under a BLM special recreation permit, and how the Broken Wing Ranch would be administered by the BLM. The comments were considered and addressed in Chapter 7 (Public Involvement) of the Final EIS. The BLM revised its analysis in response to the comments to include additional supporting text and to make minor corrections. There were no substantive changes to the analysis in response to the comments.

The BLM and Forest Service have selected Alternative M2 as the preferred MMPO alternative. The BLM's preferred land disposal alternative is Alternative L2. Pursuant to the Notice of Intent (75 FR 45652), the Notice of Exchange proposal in local newspapers, the Notices of Availability for the Draft EIS/draft RMP amendment published in the Federal Register on March 21, 2014 (79 FR 15741, 79 FR 15771, and March 28, 2014, 79 FR 17538, and this Notice, the BLM is complying with the requirements in 43 CFR 1610.2 to notify the public of potential amendments to land use plans, based on the analysis in an EIS.

The responsible officials for the proposed actions are the Field Manager, Challis Field Office, BLM (MMPO); District Manager, Idaho Falls District, BLM (land disposal); State Director, Idaho State Office, BLM (RMP amendment).

Instructions for filing a protest with the Director of the BLM regarding the proposed RMP amendment are at 43 CFR 1610.5-2 and also in the “Dear Reader” letter for the Final EIS/proposed RMP amendment. All protests must be in writing and mailed to the appropriate address, as set forth in the “ADDRESSES” section above. Protests sent by email will not be accepted as valid protests unless the protesting party also provides the original letter by either regular mail or overnight delivery postmarked by the close of the protest period. Under these conditions, the BLM will consider the email as an advance copy and it will receive full consideration. If you wish to provide the BLM with such advance notification, please direct emails to protest@blm.gov.

Before including your phone number, email address, or other personal identifying information in your protest, you should be aware that your entire protest—including your personal identifying information—may be made publicly available at any time. While you can ask us in your protest to withhold your personal identifying information from public review, we cannot guarantee that we will be able to do so.

Authority: 42 U.S.C. 4321 et seq.; 40 CFR 1506; 43 CFR 46; 43 CFR 1610.2.

Todd Kuck,
Challis Field Manager.

[FR Doc. 2015-07005 Filed 3-26-15; 8:45 am]

BILLING CODE 4310-GG-P